DEPARTMENT OF LABOR

Employment and Training Administration

[NAFTA-4418 and TA-W-38,516]

Owens Brockway, Glass Container Division, Fulton, NY; Notice of Revised Determination on Reconsideration

By letter of May 1, 2001, the Glass, Molders, Pottery, Plastics & Allied Workers International Union requested administrative reconsideration of the Department's denial of North American Free Trade Agreement-Transitional Adjustment Assistance (NAFTA-TAA) and Trade Adjustment Assistance (TAA), applicable to workers of Owens Brockway, Glass Container Division, Fulton, New York. The notices were published in the Federal Register on May 2, 2001, NAFTA-4418 (66 FR 22007), and TA-W-38,516 (66 FR 22006).

The workers were primarily engaged in the production of glass bottles.

The workers were denied NAFTA-TAA on the basis that there was no shift in production to Mexico or Canada, nor were there company or customer imports of glass bottles from Mexico or Canada. The workers were denied TAA because the “contributed importantly” test of the Group Eligibility Requirements of the Trade Act was not met.

The union request for reconsideration indicated that the subject plants' major customer imported glass bottles from South America and Mexico. Upon examination of 1999 and 2000 glass bottle import statistics, aggregate U.S. imports of glass bottles from Canada and Mexico increased significantly. The review further depicts a meaningful increase in aggregate U.S. imports of glass bottles during the relevant period.

Conclusion

After careful consideration of the new facts obtained on reconsideration, it is concluded that the workers of Owens Brockway, Glass Container Division, Fulton, New York, were adversely affected by increased imports (including those from Canada and Mexico) of articles like or directly competitive with glass bottles produced at the subject firm.

All workers of Owens Brockway, Glass Container Division, Fulton, New York, who became totally or partially separated from employment on or after December 1, 1999, through two years from the date of certification, are eligible to apply for NAFTA-TAA under Section 250 of the Trade Act of 1974; and

All workers of Owens Brockway, Glass Container Division, Fulton, New York, who became totally or partially separated from employment on or after December 1, 1999, through two years from the date of certification, are eligible to apply for adjustment assistance under Section 223 of the Trade Act of 1974.

Signed at Washington, DC this 18th day of September 2001.
Edward A. Tomchick,
Director, Division of Trade Adjustment Assistance.

[FR Doc. 01-24821 Filed 10-3-01; 8:45 am]

BILLING CODE 4510-30-M